DEPARTMENT OF THE INTERIOR

National Park Service

[NPS-WASO-NAGPRA-NPS0037012; PPWOCRADN0-PCU00RP14.R50000]

Notice of Intent To Repatriate Cultural Items: University of California, Berkeley, Berkeley, CA

AGENCY: National Park Service, Interior.

ACTION: Notice.

SUMMARY: In accordance with the Native American Graves Protection and Repatriation Act (NAGPRA), the University of California, Berkeley intends to repatriate certain cultural items that meet the definition of sacred objects and have a cultural affiliation with the Native Hawaiian organizations in this notice. The cultural items were removed from the Hawaiian Islands.

DATES: Repatriation of the cultural items in this notice may occur on or after January 4, 2024.

ADDRESSES: Alexandra Lucas, Repatriation Coordinator, Government and Community Relations (Chancellor's Office), University of California, Berkeley, 200 California Hall, Berkeley, CA 94720, telephone (510) 570-0964, email nagpra-ucb@berkeley.edu.

SUPPLEMENTARY INFORMATION: This notice is published as part of the National Park Service's administrative responsibilities under NAGPRA. The determinations in this notice are the sole responsibility of the University of California, Berkeley. The National Park Service is not responsible for the determinations in this notice. Additional information on the determinations in this notice, including the results of consultation, can be found in the summary or related records held by the University of California, Berkeley.

Description

Between 1881 and 1917, 29 sacred objects were removed from the Hawaiian Islands by, variously, the Alaska Commercial Company, Arthur Rodgers, François L. A. Pioche, H.W. O'Melveny, Jackson R. Myers, Phoebe Apperson Hearst, and other unknown collectors, and were donated to the Lowie Museum (Phoebe A. Hearst Museum of Anthropology). The sacred objects are one `opu`u (pendant), one `umeke (bowl), 10 hoana (grindstone), one `ihe (spear), one ipu `aina (scrap bowl), one ipu kuha (spittoon), two kūpe`e (anklet/bracelet), one makau (fishhook) or niho palaoa (whale tooth pendent), four niho palaoa (whale tooth pendent), two lei niho palaoa (whale tooth pendent human hair necklace) and five lei lauoho (human hair necklace). The human hair in the two lei niho palaoa and five lei lauoho are reasonably believed to have been freely given or naturally shed by the individuals from whom it was obtained.

Five sacred objects were removed from the Hawaiian Islands by Mr. and Mrs. Gardner Dailey and were donated in 1970 to the Lowie Museum (Phoebe A. Hearst Museum of Anthropology). The sacred objects are five lei hulu (feather necklace).

Also, 301 additional items which are not ‘cultural items’ under NAGPRA are being returned pursuant to the University of California Native American Cultural Affiliation and Repatriation Policy, Section V.G., Voluntary Deaccessioning of Items which are not NAGPRA/CalNAGPRA-eligible.

Cultural Affiliation

The cultural items in this notice are connected to one or more identifiable earlier groups, tribes, peoples, or cultures. There is a relationship of shared group identity between the identifiable earlier groups, tribes, peoples, or cultures and one or more Indian Tribes or Native Hawaiian organizations. The following types of information were used to reasonably trace the relationship: Tribal traditional knowledge, geographical, and historical.

Determinations

Pursuant to NAGPRA and its implementing regulations, and after consultation with the appropriate Indian Tribes and Native Hawaiian organizations, the University of California, Berkeley has determined that:

• The 34 cultural items described above are specific ceremonial objects needed by traditional Native American religious leaders for the practice of traditional Native American religions by their present-day adherents.

• There is a relationship of shared group identity that can be reasonably traced between the cultural items and the Council for Native Hawaiian Advancement, and Hui Iwi Kuamo`o.

Requests for Repatriation

Additional, written requests for repatriation of the cultural items in this notice must be sent to the Responsible Official identified in ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after January 4, 2024. If competing requests for repatriation are received, the University of California, Berkeley must determine the most appropriate requestor prior to repatriation. Requests for joint repatriation of the cultural items are considered a single request and not competing requests. The University of California, Berkeley is responsible for sending a copy of this notice to the Native Hawaiian organizations identified in this notice.

Authority: Native American Graves Protection and Repatriation Act, 25 U.S.C. 3003, and the implementing regulations, 43 CFR 10.8, 10.10, and 10.14.

Dated: November 28, 2023.
Melanie O'Brien,
Manager, National NAGPRA Program.

[FR Doc. 2023-26617 Filed 12-4-23; 8:45 am]

BILLING CODE 4312-52-P